DEPARTMENT OF DEFENSE

Defense Acquisition Regulations System

48 CFR Part 236

[Docket DARS-2024-0019]

RIN 0750-AM16

Defense Federal Acquisition Regulation Supplement: Architect and Engineering Service Fees (DFARS Case 2024-D019); Delay of Effective Date

AGENCY: Defense Acquisition Regulations System, Department of Defense (DoD).

ACTION: Final rule; delay of effective date.

SUMMARY: DoD is postponing the effective date of the final rule published in the Federal Register on June 27, 2024. As published, the rule was to be effective August 26, 2024.

DATES: The effective date for the final rule published June 27, 2024, at 89 FR 53502, is delayed from August 26, 2024, to September 16, 2024.

FOR FURTHER INFORMATION CONTACT: Ms. Jennifer D. Johnson, telephone 703-717-8226.

SUPPLEMENTARY INFORMATION: On June 27, 2024, DoD published a final rule amending the Defense Federal Acquisition Regulation Supplement (DFARS) to implement section 2881 of the National Defense Authorization Act for Fiscal Year 2024 (Pub. L. 118-31). Section 2881 increased the statutory limitation on the amount that may be earned by contractors providing certain architect and engineering services under contracts with the Departments of the Army, Navy, and Air Force. The effective date of the final rule has been postponed from August 26, 2024, to September 16, 2024, to comply with the Congressional Review Act; the final rule is a major rule as defined by 5 U.S.C. 804.

Jennifer D. Johnson,
Editor/Publisher, Defense Acquisition Regulations System.

[FR Doc. 2024-16715 Filed 7-29-24; 8:45 am]

BILLING CODE 6001-FR-P